DEPARTMENT OF THE TREASURY

Departmental Offices; Privacy Act of 1974, as Amended

AGENCY: Departmental Offices, Treasury.

ACTION: Notice of Proposed New Privacy Act System of Records.

SUMMARY: In accordance with the requirements of the Privacy Act of 1974, as amended, 5 U.S.C. 552a, the Department of the Treasury, Office of Financial Education, gives notice of a proposed new system of records entitled “National Financial Literacy Challenge Records—Treasury/DO .217.”

DATES: Comments must be received no later than April 9, 2008. This new system of records will be effective April 21, 2008 unless the Office of Financial Education receives comments that would result in a contrary determination.

ADDRESSES: Comments should be sent to Edwin Bodensiek, Director of Outreach for Financial Education, Department of the Treasury, 1500 Pennsylvania Avenue, NW., Washington, DC 20220.

The Department will make such comments available for public inspection and copying in the Department's Library, Room 1428, Main Department Building, 1500 Pennsylvania Avenue, NW., Washington, DC 20220, on official business days between the hours of 10 a.m. and 5 p.m. Eastern Time. You can make an appointment to inspect comments by telephoning (202) 622-0204. All comments, including attachments and other supporting materials, received are part of the public record and subject to public disclosure. You should submit only information that you wish to make available publicly.

FOR FURTHER INFORMATION CONTACT: Edwin Bodensiek, Director of Outreach for Financial Education, Department of the Treasury, 1500 Pennsylvania Avenue, NW., Washington, DC 20220, at 202-622-8811 or via electronic mail at ed.bodensiek@do.treas.gov.

SUPPLEMENTARY INFORMATION: The purpose of this system is to determine award eligibility under the program described below which is expected to be called the National Financial Literacy Challenge or a similar name, (“Challenge”), and to provide data for analysis on improving financial literacy. The Challenge is a new initiative in which participating high school students age 13 and above voluntarily take a test of their financial literacy. The Challenge consists of approximately 35 substantive multiple choice questions about savings, credit, income, financial responsibility, and money and risk management, as well as approximately seven demographic questions on items such as the student's age, grade level (i.e., sophomore, junior, etc.) gender, race and/or ethnicity. Students who attain sufficiently high scores will receive certificates and/or awards. The Department may seek to publicly recognize top-scoring students, but will obtain parental consent prior to doing so.

The test questions would not be part of the system of records because the questions would not ask for personally identifiable information. The system of records will include, for test participants, the high schools' names and addresses; students' names; students' scores; student names, teachers, and high schools of award winners; teachers' names; teachers' business email addresses; and teachers' business phone numbers.

The report of a new system of records, as required by 5 U.S.C. 552a(r) of the Privacy Act, has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000.

The proposed new system of records entitled “National Financial Literacy Challenge Records—Treasury/DO .217” is published in its entirety below.

Dated: March 4, 2008.
Peter B. McCarthy,
Assistant Secretary for Management and Chief Financial Officer.

TREASURY/DO .217

SYSTEM NAME:

National Financial Literacy Challenge—Treasury/DO.

SYSTEM LOCATION:

Department of the Treasury, Office of Financial Education, 1500 Pennsylvania Avenue, NW., Washington, DC 20220.

CATEGORIES OF INDIVIDUALS COVERED BY THE SYSTEM:

Individuals covered by the system will be those high school students age 13 and older and their teachers who participate in the test.

CATEGORIES OF RECORDS IN THE SYSTEM:

The system of records will include, for Challenge participants, the high schools' names and addresses; students' names and scores; high school names of award winners; teachers' names, teachers' business email addresses and business phone numbers.

AUTHORITY FOR MAINTENANCE OF THE SYSTEM:

5 U.S.C. 301 and Executive Order 13455.

PURPOSE(S):

The records in this system will be used to identify students whose scores on the Challenge meet the guidelines for award recognition and to distribute the awards to the teachers, who in turn will distribute the awards to the students. Aggregate data and reports related to the program that may be generated and used for analysis will be in a form that is not individually identifiable.

ROUTINE USES OF RECORDS MAINTAINED IN THE SYSTEM INCLUDING CATEGORIES OF USERS AND PURPOSES OF SUCH USES

These records may be used to disclose information to:

(1) A court, magistrate, or administrative tribunal, in the course of presenting evidence, including disclosures to opposing counsel or witnesses, for the purpose of civil discovery, litigation, or settlement negotiations or in response to a subpoena, where relevant or potentially relevant to a proceeding, or in connection with criminal law proceedings;

(2) A congressional office in response to an inquiry made at the request of the individual (or the individual's parents or guardians) to whom the record pertains;

(3) A contractor or a sponsor, operating in conjunction with the Office of Financial Education to the extent necessary to present appropriate awards;

(4) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm, and

(5) These records may be used to disclose award winners to the participant's high school.

POLICIES AND PRACTICES FOR STORING, RETRIEVING, ACCESSING, RETAINING AND DISPOSING OF RECORDS IN THE SYSTEM:

STORAGE:

Paper records and electronic media.

RETRIEVABILITY:

Students' scores will be retrievable by name, teacher, and school. Teacher data is retrievable by the name and contact information of the teacher. School information is retrievable by the name and location of the school.

RETENTION AND DISPOSAL:

Records will be destroyed at the earliest possible date consistent with applicable records retention policies.

SAFEGUARDS:

All official access to the system of records is on a need-to-know basis only, as authorized by the Office of Financial Education of the U.S. Treasury Department. Procedural and physical safeguards, such as personal accountability, audit logs, and specialized communications security, will be utilized. Each user of computer systems containing records will have individual passwords (as opposed to group passwords) for which the user is responsible. Access to computerized records will be limited, through use of access codes, encryption techniques, and/or other internal mechanisms, to those whose official duties require access. Storage facilities will be secured by various means such as locked file cabinets with key entry.

SYSTEM MANAGER(S) AND ADDRESS:

Director of Outreach, Department of the Treasury, 1500 Pennsylvania Avenue, NW., Washington, DC 20220.

NOTIFICATION PROCEDURE:

Individuals wishing to be notified if they are named in this system of records, gain access to records maintained in this system, or seek to contest its content, must submit a written request containing the following elements: (1) Identify the record system; (2) identify the category and type of records sought; and (3) provide at least two items of secondary identification (See 31 CFR Part 1, Appendix A). Address inquiries to: Director, Disclosure Services, Department of the Treasury, 1500 Pennsylvania Ave., NW., Washington, DC 20220.

RECORDS ACCESS PROCEDURES:

See “notification procedure” above.

CONTESTING RECORDS PROCEDURES:

See “notification procedure” above.

RECORDS SOURCE CATEGORIES:

Student test takers; high school points of contact; and Department of the Treasury records.

EXEMPTIONS CLAIMED FOR THE SYSTEM:

None.

[FR Doc. E8-4629 Filed 3-7-08; 8:45 am]

BILLING CODE 4811-42-P